DEPARTMENT OF ENERGY

Federal Energy Regulatory Commission

Notice of Sixth Interstate Natural Gas Facility-Planning Seminar; Presentation of Staff's Findings

September 7, 2001.

The Office of Energy Projects will hold the sixth in a series of public meetings for the purpose of exploring and enhancing strategies for constructive public participation in the earliest stages of natural gas facility planning. This seminar will be held in Washington, DC at the Federal Energy Regulatory Commission on Thursday, September 20, 2001. The seminar will focus on the staff's report entitled: “Ideas For Better Stakeholder Involvement In The Interstate Natural Gas Pipeline Planning Pre-Filing Process” and provide an opportunity for an open discussion of the report.

We are inviting all attendees from our previous seminars and any other interested persons; natural gas companies; Federal, state and local agencies; landowners and non-governmental organizations with an interest in searching for improved ways to do business to join us. We will specifically discuss the findings in staff's report and the overall facility planning process, not the merits of any pending or planned pipeline projects.

The staff report is being provided, along with this notice, to each participant in our past seminars. The report can also be downloaded from the FERC web-site at www.ferc.gov or requested by e-mail at: gas outreach-feedback@ferc.fed.us.

At the seminar, the staff of the Commission's Office of Energy Projects will give a presentation on the findings in the staff report. These were compiled from our first five seminars in Albany, New York; Chicago, Illinois; Tampa, Florida; Seattle, Washington; and Portsmouth, New Hampshire. We will discuss each set of action options stakeholders can use as tools to improve their involvement in the pre-filing planning process.

The meeting will be held in the FERC Headquarters at 888 1st St., NE., Washington, DC. The meeting is scheduled to start at 9:30 a.m. and finish at 12 noon.

If you plan to attend, please email our team by September 17, 2001 at gasoutreach@ferc.fed.us. Or, you can respond via facsimile to Pennie Lewis-Partee at 202-208-0353. Please include in the response the names, addresses, and telephone numbers of all attendees from your organization. We will send an acknowledgment of your request.

If you have any questions, you may contact any of the staff listed below:

Richard Hoffmann, 202/208-0066

Lauren O'Donnell, 202/208-0325

Jeff Shenot, 202/219-2178

Howard Wheeler, 202/208-2299

J. Mark Robinson,
Director, Office of Energy Projects.

[FR Doc. 01-23201 Filed 9-17-01; 8:45 am]

BILLING CODE 6717-01-P